DEPARTMENT OF AGRICULTURE

Natural Resources Conservation Service

[Docket No. NRCS-2021-0005]

Proposed Revisions to the National Handbook of Conservation Practices for the Natural Resources Conservation Service

AGENCY: Natural Resources Conservation Service, USDA.

ACTION: Notice of availability; request for comments.

SUMMARY: The Natural Resources Conservation Service (NRCS) is giving notice that it intends to issue a series of revised conservation practice standards in the National Handbook of Conservation Practices (NHCP). NRCS is also giving the public an opportunity to provide comments on specified conservation practice standards in NHCP.

DATES: We will consider comments that we receive by June 16, 2022.

ADDRESSES: We invite you to submit comments in response to this notice. You may submit your comments through one of the methods below:

• Federal eRulemaking Portal: Go to http://www.regulations.gov and search for docket ID NRCS-2021-0005. Follow the online instructions for submitting comments; or

• Mail or Hand Delivery: Mr. Clarence Prestwich, National Agricultural Engineer, Conservation Engineering Division, NRCS, USDA, 1400 Independence Avenue, South Building, Room 4636, Washington, DC 20250. In your comment, please specify the docket ID NRCS-2021-0005.

All comments received will be made publicly available on http://www.regulations.gov.

The copies of the proposed revised standards are available through http://www.regulations.gov by accessing Docket No. NRCS-2021-0005. Alternatively, the proposed revised standards can be downloaded or printed from http://go.usa.gov/TXye.

FOR FURTHER INFORMATION CONTACT: Mr. Clarence Prestwich; telephone: (202) 720-2972; email: clarence.prestwich@usda.gov. Persons with disabilities who require alternative means for communication should contact the U.S. Department of Agriculture (USDA) Target Center at (202) 720-2600 (voice).

SUPPLEMENTARY INFORMATION:

Background

NRCS plans to revise the conservation practice standards in the NHCP. This notice provides an overview of the planned changes and gives the public an opportunity to offer comments on the specific conservation practice standards and NRCS's proposed changes.

NRCS State Conservationists who choose to adopt these practices in their States will incorporate these practices into the respective electronic Field Office Technical Guide. These practices may be used in conservation systems that treat highly erodible land (HEL) or on land determined to be a wetland. Section 343 of the Federal Agriculture Improvement and Reform Act of 1996 requires NRCS to make available for public review and comment all proposed revisions to conservation practice standards used to carry out HEL and wetland provisions of the law.

Revisions to the National Handbook of Conservation Practices

The amount of the proposed changes varies considerably for each of the conservation practice standards addressed in this notice. To fully understand the proposed changes, individuals are encouraged to compare these changes with each standard's current version, which can be found at: http://www.nrcs.usda.gov/wps/portal/nrcs/detailfull/national/technical/cp/ncps/?cid=nrcs143_026849.

NRCS is requesting comments on the following conservation practice standards:

• Aquatic Organism Passage (Code 396);

• Clearing and Snagging (Code 326);

• Constructed Wetland (Code 656);

• Dike and Levee (Code 356);

• Diversion (Code 362);

• Feed Management (Code 592);

• Firebreak (Code 394);

• Forest Stand Improvement (Code 666);

• Fuel Break (Code 383);

• Hillside Ditch (Code 423);

• Range Planting (Code 550); and

• Soil Carbon Amendment (Code 336).

The following are highlights of some of the proposed changes to each standard:

Aquatic Organism Passage (Code 396): Revisions have been made to clarify the diﬀerences between the biological and ecological requirements versus the engineering structural design elements. The Criteria section has been reorganized into subsections that list application criteria for speciﬁc barrier situations. References have been updated and minor revisions were made for clarity and readability.

Clearing and Snagging (Code 326): The definition has been changed to clarify that the term stream includes channels. The purposes have been reworded to better clarify the resource concerns being addressed by the standard. Changes have been made in the Criteria section to the capacity analysis to add flexibility for emergency work and to clarify hazardous materials such as propane tanks and car bodies for debris disposal.

Costructed Wetland (Code 656): Changes were made to the Purposes and Conditions Where Practice Applies section of the standard to clarify that the practice can be used to treat tile drainage outflow. References were added and the formatting and writing style were updated to meet current agency requirements. Minor revisions were made for clarity and readability.

Dike and Levee (Code 356): This revision retitles CPS 356 from Dike to Dike and Levee to allow distinction between dikes and levees. A clear distinction is drawn between what is a dike and what is a levee based on purpose and levee hazard potential. This distinction is necessary to align with the definition of a levee used by other Federal agencies. Potential future revisions include splitting this standard into two separate standards after National Levee Safety Guidelines are developed, but the timeframe for that is currently unknown.

Diversion (Code 362): Formatting and writing style were updated to meet current agency requirements. The purposes were consolidated from nine statements to three statements. In the Criteria section, the subsection for cross section would provide additional protection for sensitive sites and vegetative establishment subsection changes would clarify non-vegetated diversions are allowable. The Considerations section addressing potential wetland impacts was expanded to include subsurface seepage and to address the potential water quality impacts of concentrating flows.

Feed Management (Code 592): Multiple changes and additions would be made throughout the standard to meet current agency requirements and language updated to improve clarity. The purpose for Air Quality was expanded to include ammonia, volatile organic compounds, greenhouse gases, and dust to be consistent with the Air Quality policy.

Firebreak (Code 394): Firebreak definition would be changed to distinguish this practice from Fuel Break (383). Language would be updated throughout the document to improve clarity. Considerations section was reorganized to put similar considerations together. References were updated by adding relevant publications.

Forest Stand Improvement (Code 666): The Definition, Purpose, Criteria, Considerations, and Operation and Maintenance sections were refined to add clarity. The purposes were revised to align with resource concerns. Criteria and Considerations sections were reorganized and revised to match the updated purposes and link to enhancements. New considerations for the use of biomass for bioenergy, renewable energy production, or biochar were added. The References section was updated with relevant publications.

Fuel Break (Code 383): Language was added to better distinguish Fuel Break (383) from Firebreak (394). Purpose, Criteria, and Considerations sections were further refined. The sections on Plans and Specifications and Operation and Maintenance were revised to improve clarity. The References section was updated with relevant publications.

Hillside Ditch (Code 423): The formatting and writing style were updated to meet current agency requirements and minor revisions were made for clarity and readability. The Capacity subsection of Criteria was revised to remove specific limitations for stable channel grade and expanded to be the Channel Stability and Capacity subsection. The required capacity was reduced from conveying runoff from a 10 year-24 hour storm to a 5 year-24 hour storm.

Range Planting (Code 550): The Definition and Conditions Where Practice Applies sections were edited for clarity. In the Criteria section, the general criteria applicable to all purposes was edited for completeness and a multi‐year seeding strategy was added to Considerations. References were updated to include a Conservation Effects Assessment Project (CEAP) study and the PLANTS database.

Soil Carbon Amendment (Code 336): Supports the application of biochar, compost, and other state‐approved carbon amendments (for example, harvested aquatic plant biomass, bagasse, distillation residue) to increase soil carbon sequestration and improve soil health on all land uses. The evaluation and monitoring of soil properties, amendment characterization, and short and long‐term conservation objectives form the basis for the soil carbon amendment practice plan.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Persons with disabilities who require alternative means of communication for program information (for example, braille, large print, audiotape, American Sign Language, etc.) should contact the responsible Agency or USDA TARGET Center at (202) 720-2600 (voice and TTY) or (844) 433-2774 (toll-free nationwide). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Louis Aspey,
Acting Chief, Natural Resources Conservation Service.

[FR Doc. 2022-10537 Filed 5-16-22; 8:45 am]

BILLING CODE 3410-16-P